DEPARTMENT OF TRANSPORTATION

Federal Motor Carrier Safety Administration

Sunshine Act Meetings; Unified Carrier Registration Plan Board of Directors

AGENCY: Federal Motor Carrier Safety Administration (FMCSA), DOT.

ACTION: Notice of Unified Carrier Registration Plan Board of Directors (UCR Board) and Subcommittee Meetings.

TIME AND DATE: The meetings will occur on the following schedule and will take place in the Mountain (Daylight) Time Zone:

Thursday, August 23, 2018

8:15 a.m.-9:00 a.m. Registration System Subcommittee

9:00 a.m.-12:00 Noon. UCR Board

PLACE: These meetings will be open to the public at the Radisson Hotel Salt Lake City Downtown, 215 West South Temple, Salt Lake City, UT 84101, and via conference call. Those not attending the meetings in person may call toll-free; 1-877-422-1931, passcode 2855443940, to listen and participate in the meetings.

STATUS: Open to the public.

MATTERS TO BE CONSIDERED: The Unified Carrier Registration Plan Board of Directors (the Board) will continue its work in developing and implementing the Unified Carrier Registration Plan and Agreement and to that end, may consider matters properly before the Board. An agenda for these meetings will be available no later than 5:00 p.m. Eastern Daylight Time, August 14, 2018 at: https://ucrplan.org.

FOR FURTHER INFORMATION CONTACT: Mr. Avelino Gutierrez, Chair, Unified Carrier Registration Board of Directors at (505) 827-4565.

Issued on: July 16, 2018.
Larry W. Minor,
Associate Administrator, Office of Policy, Federal Motor Carrier Safety Administration.

[FR Doc. 2018-15603 Filed 7-17-18; 4:15 pm]

BILLING CODE 4910-EX-P